DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date(s) of Meeting: 10 & 11 June 2004.

Time(s) of Meeting: 0800-1700, 10 June 2004; and 0800-1700, 11 June 2004.

Place: Hilton Hotel, Crystal City, VA.

1. Agenda: The Army Science Board FY04 Summer Studies, Force Balance and FCS Urban Operations are holding a plenary meeting on the 10th & 11th of June 2004. The meeting will be held at the Hilton Hotel in Crystal City, VA. The meeting will begin at 0800 hrs on the 10th and will end at approximately 1700 hrs on the 11th. For further information regarding Force Balance, please contact LTC Al Alkee @ (703)-601-0676 or e-mail @Alvin.Klee@ocar.army.pentagon.mil. For FCS Urban Operations, please contact MAJ Al Visconti @ (865) 574-8798 or e-mail @viscontiaj@ornl.gov.

Wayne Joyner,
Program Support Specialist, Army Science Board.

[FR Doc. 04-12802 Filed 6-4-04; 8:45 am]

BILLING CODE 3710-08-M